SECURITIES AND EXCHANGE COMMISSION

[OMB Control No. 3235-0247]

Agency Information Collection Activities; Submission for OMB Review; Comment Request; Extension: Form N-8B-4

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget (“OMB”) this request for extension of the previously approved collection of information discussed below.

Form N-8B-4 (17 CFR 274.14) is the form used by face-amount certificate companies to comply with the filing and disclosure requirements imposed by Section 8(b) of the Investment Company Act of 1940 (15 U.S.C. 80a-8(b)). Among other items, Form N-8B-4 requires disclosure of the following information about the face-amount certificate company: date and form of organization; controlling persons; current business and contemplated changes to the company's business; investment, borrowing, and lending policies, as well as other fundamental policies; securities issued by the company; investment adviser; depositaries; management personnel; compensation paid to directors, officers, and certain employees; and financial statements. The Commission uses the information provided in the collection of information to determine compliance with Section 8(b) of the Investment Company Act of 1940.

Each registrant files Form N-8B-4 for its initial filing and does not file post-effective- amendments to Form N-8B-4.¹ There are currently only two existing face-amount certificate companies, and only one face-amount certificate company has filed a Form N-8B-4 since the last OMB information collection approval for this form. Prior to that filing, no face-amount certificate company had filed a Form N-8B-4 in the last ten years. Based on the foregoing, for purposes of estimating the average burden hours and cost of this information collection, Commission staff estimates that one respondent will file Form N-8B-4 each year.

¹ Pursuant to Section 30(b)(1) of the Act (15 U.S.C. 80a-29), each respondent keeps its registration statement current through the filing of periodic reports as required by Section 13 of the Securities Exchange Act of 1934 (15 U.S.C. 78m) and the rules thereunder; post-effective amendments are filed with the Commission on the face-amount certificate company's Form S-1; hence, respondents only file Form N-8B-4 for their initial registration statement and not for post-effective amendments.

Based on our experience with Form N-8B-4 and disclosure documents in general, we estimate the burden hours for preparing and filing registration statements on Form N-8B-4 is approximately 10 hours per respondent. The number of burden hours may vary depending on, among other things, the complexity of the filing and whether preparation of the registration statement is performed internally or by outside counsel. Based on the foregoing, the Commission staff estimates the total annual burden for this form to be 10 hours (10 burden hours per respondent × 1 respondent × 1 response = 10 total annual burden hours). The total estimated annual cost of the burden hours is $5,800. This figure is based on an hourly rate figure of $580/hour. Estimates of the burden hours are made solely for the purposes of the PRA and are not derived from a comprehensive or even a representative survey or study of the costs of SEC rules and forms.

The information provided on Form N-8B-4 is mandatory. The information provided on Form N-8B-4 will not be kept confidential.

An agency may not conduct or sponsor, and a person is not required to respond to, a collection of information unless it displays a currently valid control number.

The public may view and comment on this information collection request at: https://www.reginfo.gov/public/do/PRAViewICR?ref_nbr=202512-3235-016 or email comment to MBX.OMB.OIRA.SEC_desk_officer@omb.eop.gov within 30 days of the day after publication of this notice, by April 6, 2026.

Dated: February 27, 2026.
Sherry R. Haywood,
Assistant Secretary.

[FR Doc. 2026-04221 Filed 3-3-26; 8:45 am]

BILLING CODE 8011-01-P